DEPARTMENT OF ENERGY

Federal Energy Regulatory Commission

Notice of Application for Amendment of License and Soliciting Comments, Motions To Intervene, and Protests

November 5, 2001.

Take notice that the following application has been filed with the Commission and is available for public inspection:

a. Application Type: Amendment of License to Change Project Boundary and Approve Revised Exhibits.

b. Project No: 2058-020.

c. Date Filed: May 25, 2001.

d. Applicant: Avista Corporation.

e. Name of Project: Clark Fork Project.

f. Location: The project is located on the Clark Fork River in Bonner County, Idaho and Sanders County, Montana.

g. Filed Pursuant to: Federal Power Act, 16 U.S.C. 791 (a) 825(r) and 799 and 801.

h. Applicant Contact: Steven A. Fry, Hydro Licensing and Safety Manager, Avista Corporation, 1411 East Mission Ave., P.O. Box 3727, Spokane, WA 99220-3727, (509) 495-4084.

i. FERC Contact: Any questions on this notice should be addressed to Mrs. Anumzziatta Purchiaroni at (202) 219-3297, or e-mail address: anumzziatta.purchiaroni@ferc.fed.us.

j. Deadline for filing comments and or motions: December 14, 2001.

All documents (original and eight copies) should be filed with: David P. Boergers, Secretary, Federal Energy Regulatory Commission, 888 First Street, NE., Washington DC 20426. Comments, protests and interventions may be filed electronically via the Internet in lieu of paper. See, 18 CFR 385.2001(a)(1)(iii) and the instructions on the Commission's web site under the “e-Filing” link.

Please include the project number (P-2058-020) on any comments or motions filed.

k. Description of Request: Avista filed revised exhibit F and G drawings for approval. The exhibits show the removal of the following land from the project boundary: (a) 0.90 acre of land including private properties known as Vermillion View; (b) 15.2 acres consisting of two segments of land located along the Montana State Highway 200; (3) and 7.1 acres of property which contains a State Shop facility: Including gravel, stock pile, and maintenance shops. In the filing, Avista indicated that the lands to be removed are not necessary for project operation, and no federal lands are located within the parcels to be removed.

l. Locations of the Application: A copy of the application is available for inspection and reproduction at the Commission's Public Reference Room, located at 888 First Street, NE., Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of rules of practice and procedure, 18 CFR 385.210, 385.211, 385.214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-28124 Filed 11-8-01; 8:45 am]

BILLING CODE 6717-01-P